DEPARTMENT OF DEFENSE

Department of the Navy

[Docket ID: USN-2022-HQ-0017]

Proposed Collection; Comment Request

AGENCY: Department of the Navy (DoN), Department of Defense (DoD).

ACTION: 60-Day information collection notice.

SUMMARY: In compliance with the Paperwork Reduction Act of 1995, the Naval Health Research Center announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 9, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Naval Health Research Center, 140 Sylvester Rd., San Diego, CA 92106, ATTN: Dr. Cynthia Thomsen, or call 619-553-6897.

SUPPLEMENTARY INFORMATION:

Title; Associated Form; and OMB Number: COVID-19 Behavioral Health Surveillance Survey; OMB Control Number 0703-BHSS.

Needs and Uses: Information about the impacts of the COVID-19 pandemic on service member health and readiness is urgently needed to inform the military's response to the pandemic and to ensure service member health and readiness. The proposed anonymous, web-based COVID-19 Behavioral Health Surveillance survey will provide unit-level and service-wide information about the effects of the pandemic on Sailors and Marines. Unit commanders will be provided with critical information about specific COVID-19 related challenges service members face so that they can employ strategies to mitigate the harms associated with the pandemic. The survey asks about a range of issues related to the COVID-19 pandemic, including its effects on service members' ability to effectively perform their duties, home life and relationships, preventative health behaviors, and mental/behavioral health and readiness.

Affected Public: Individuals or households.

Annual Burden Hours: 25,000.

Number of Respondents: 25,000.

Responses per Respondent: 2.

Annual Responses: 50,000.

Average Burden per Response: 30 minutes.

Frequency: Semi-annually.

The surveillance effort will involve an initial assessment, which may be followed by a 6-month follow-up assessment (which will be the same assessment). Importantly, because surveys will be anonymous, these surveys will not be able to be linked at the individual level, and individuals will not be re-contacted to complete a follow up survey. However, it will be possible to use data resulting from repeated surveillance to determine changes over time in unit-level health and readiness. The surveillance team may elect to add additional time points with approval and based on availability of funding as well as the potentially fluctuating challenges associated with the pandemic.

Dated: June 2, 2022.
Aaron T. Siegel,
Alternate OSD Federal Register Liaison Officer, Department of Defense.

[FR Doc. 2022-12493 Filed 6-9-22; 8:45 am]

BILLING CODE 5001-06-P